DEPARTMENT OF COMMERCE

International Trade Administration

[A-351-605]

Frozen Concentrated Orange Juice from Brazil; Final Results and Partial Rescission of Antidumping Duty Administrative Review

AGENCY: Import Administration, International Trade Administration, Department of Commerce.

ACTION: Notice of final results of antidumping duty administrative review.

SUMMARY: On June 4, 2001, the Department of Commerce published the preliminary results of administrative review of the antidumping duty order on frozen concentrated orange juice from Brazil (66 FR 29330). This review covers four manufacturers/exporters of the subject merchandise to the United States. This review covers the period May 1, 1999, through April 30, 2000.

Based on our analysis of the comments received, we have not made changes in the margin calculations. Therefore, the final results do not differ from the preliminary results. We have determined to rescind the review with respect to Branco Peres Citrus S.A., CTM Citrus S.A., and Sucorrico S.A. because they had no shipments of subject merchandise to the United States during the period of review. The final weighted-average dumping margin for the reviewed firm is listed below in the section entitled “Final Results of Review.”

EFFECTIVE DATE: October 5, 2001.

FOR FURTHER INFORMATION CONTACT: Irina Itkin or Elizabeth Eastwood, Office of AD/CVD Enforcement, Office 2, Import Administration, International Trade Administration, U.S. Department of Commerce, 14th Street and Constitution Avenue, NW., Washington, DC 20230; telephone (202) 482-0656 or (202) 482-3874, respectively.

SUPPLEMENTARY INFORMATION:

Applicable Statute and Regulations

Unless otherwise indicated, all citations to the Tariff Act of 1930, as amended (the Act), are references to the provisions effective January 1, 1995, the effective date of the amendments made to the Act by the Uruguay Round Agreements Act (URAA). In addition, unless otherwise indicated, all citations are to the Department of Commerce's (the Department's) regulations codified at 19 CFR part 351 (2000).

Background

This review covers four manufacturers/exporters (i.e., Branco Peres Citrus S.A. (Branco Peres); Citrovita Agro Industrial Ltda. (Citrovita) and its affiliated parties (Cambuhy MC Industrial Ltda. (Cambuhy) and Cambuhy Citrus Comercial e Exportadora (Cambuhy Exportadora)); CTM Citrus S.A. (CTM); and Sucorrico S.A. (Sucorrico).

On June 4, 2001, the Department published in the Federal Register the preliminary results of administrative review of the antidumping duty order on frozen concentrated orange juice (FCOJ) from Brazil. See Frozen Concentrated Orange Juice from Brazil; Preliminary Results and Partial Recission of Antidumping Duty Administrative Review, 66 FR 29330 (June 4, 2001) (Preliminary Results).

CTM and Sucorrico claimed that they did not have shipments of subject merchandise to the United States. Because we were able to confirm this with the Customs Service, in accordance with 19 CFR 351.213(d)(3) and consistent with our practice, we are rescinding our review for CTM and Sucorrico. For further discussion, see the “Partial Rescission of Review” section of this notice, below.

Regarding Branco Peres, we were informed by the Customs Service that there was an entry of subject merchandise produced by Branco Peres during the period of review (POR) which was withdrawn from a bonded warehouse. We asked Branco Peres to explain the circumstances surrounding this entry. Banco Peres responded that it had reported the sale associated with the entry in question in the prior 1997-1998 administrative review of this proceeding. We have confirmed that we reviewed the sale associated with this entry in the context of the 1997-1998 administrative review completed August 11, 1999, and we have, therefore, determined that Branco Peres did not have any reviewable entries during this POR. Accordingly, we are rescinding our review of Branco Peres and intend to order liquidation of the entry in question at the rate in effect at the time of entry, in accordance with our practice. For further discussion, see the “Partial Rescission of Review” section of this notice, below.

We invited parties to comment on our preliminary results of review. At the request of Citrovita, a respondent in this review, we held a public hearing on August 30, 2001. The Department has conducted this administrative review in accordance with section 751 of the Act.

Scope of the Order

The merchandise covered by this order is frozen concentrated orange juice from Brazil. The merchandise is currently classifiable under item 2009.11.00 of the Harmonized Tariff Schedule of the United States (HTSUS). The HTSUS item number is provided for convenience and for customs purposes. The written description of the scope of this proceeding is dispositive.

Period of Review

The period of review is May 1, 1999, through April 30, 2000.

Partial Rescission of Review

As noted above, Branco Peres, CTM, and Sucorrico informed the Department that they had no shipments of subject merchandise to the United States during the POR. We have confirmed this with the Customs Service and with information submitted by Branco Peres from a previous segment of this proceeding. See the Memorandum from Jason M. Hoody to the File, entitled “U.S. Sales of Branco Peres in the 1997-1998 Antidumping Duty Administrative Review on Frozen Concentrated Orange Juice from Brazil,” dated May 29, 2001. Therefore, in accordance with 19 CFR 351.213(d)(3) and consistent with the Department's practice, we are rescinding our review with respect to Branco Peres, CTM, and Sucorrico. (See e.g., Certain Welded Carbon Steel Pipe and Tube from Turkey; Final Results and Partial Rescission of Antidumping Duty Administrative Review, 63 FR 35190, 35191 (June 29, 1998); and Certain Fresh Cut Flowers from Colombia; Final Results and Partial Rescission of Antidumping Duty Administrative Review, 62 FR 53287, 53288 (Oct. 14, 1997).)

Affiliated Producers

During the previous administrative review, a sister company to Citrovita's parent company purchased another Brazilian producer of FCOJ and that producer's affiliated trading company (i.e., Cambuhy and Cambuhy Exportadora, respectively). In that segment of the proceeding, we determined that it was appropriate to treat Citrovita and these affiliated parties as a single entity using the criteria outlined in 19 CFR 351.401(f). See Notice of Final Results of Antidumping Duty Administrative Review: Frozen Concentrated Orange Juice from Brazil, 65 FR 60406, 60407 (Oct. 11, 2000) (FCOJ 1998-1999 Final Results). Because neither Citrovita nor Cambuhy has provided any new evidence showing that this finding no longer holds true, we have continued to treat Citrovita and Cambuhy as a single entity and to calculate a single margin for them.¹ (See e.g., Certain Welded Carbon Steel Pipes and Tubes from Thailand: Preliminary Results of Antidumping Duty Administrative Review, 64 FR 17998, 17999 (April 13, 1999) (unchanged by the final results).) Regarding Cambuhy Exportadora, however, Citrovita provided information demonstrating that this company did not function as a producer of FCOJ during the POR. Accordingly, we have not collapsed Cambuhy Exportadora with Citrovita and Cambuhy for purposes of the final results.

¹ Hereinafter, these companies will be referred to collectively as “Citrovita,” unless otherwise noted.

Cost of Production

As discussed in the Preliminary Results, we conducted an investigation to determine whether Citrovita made home market sales of the foreign like product during the POR at prices below its cost of production (COP) within the meaning of section 773(b)(1) of the Act. We calculated the COP for these final results, and performed the cost test, following the same methodology as in the Preliminary Results.

Based on this analysis, we found that 100 percent of Citrovita's home market sales were made at prices less than the COP, and we disregarded them. For further discussion, see the Preliminary Results, 66 FR at 29932.

Analysis of Comments Received

All issues raised in the case briefs by parties to this administrative review are addressed in the “Issues and Decision Memorandum” (Decision Memo) from Richard W. Moreland, Deputy Assistant Secretary, Import Administration, to Faryar Shirzad, Assistant Secretary for Import Administration, dated October 2, 2001, which is hereby adopted by this notice. A list of the issues which parties have raised and to which we have responded, all of which are in the Decision Memo, is attached to this notice as an Appendix. Parties can find a complete discussion of all issues raised in this review and the corresponding recommendations in this public memorandum, which is on file in the Central Records Unit, room B-099, of the main Department building.

In addition, a complete version of the Decision Memo can be accessed directly on the Web at http://ia.ita.doc.gov. The paper copy and electronic version of the Decision Memo are identical in content.

Changes Since the Preliminary Results

Based on our analysis of comments received, we have made no changes to the margin calculations. For further discussion, see the Decision Memo.

Final Results of Review

We determine that the following weighted-average margin percentage exists for the period May 1, 1999, through April 30, 2000:

Manufacturer/exporter | Percent margin
Citrovita Agro Industrial Ltda./Cambuhy MC Industrial Ltda | 15.98

The Department shall determine, and the Customs Service shall assess, antidumping duties on all appropriate entries. Accordingly, we have calculated importer-specific duty assessment rates for the merchandise in question by aggregating the dumping margins calculated for all U.S. sales to each importer and dividing this amount by the total quantity of those sales. The assessment rate will be assessed uniformly on all entries of that particular importer made during the POR.

Cash Deposit Requirements

The following deposit requirements will be effective upon publication of this notice of final results of administrative review for all shipments of FCOJ from Brazil entered, or withdrawn from warehouse, for consumption on or after the date of publication, as provided by section 751(a)(1) of the Act: (1) The cash deposit rate for the reviewed company will be the rate established in the final results of this review; (2) for previously investigated companies not listed above, the cash deposit rate will continue to be the company-specific rate published for the most recent period; (3) if the exporter is not a firm covered in this review, or the LTFV investigation, but the manufacturer is, the cash deposit rate will be the rate established for the most recent period for the manufacturer of the merchandise; and (4) the cash deposit rate for all other manufacturers or exporters will continue to be 1.96 percent, the “all others” rate established in the LTFV investigation.

These deposit requirements, when imposed, shall remain in effect until publication of the final results of the next administrative review.

This notice also serves as a final reminder to importers of their responsibility under 19 CFR 351.402(f) to file a certificate regarding the reimbursement of antidumping duties prior to liquidation of the relevant entries during this review period. Failure to comply with this requirement could result in the Secretary's presumption that reimbursement of antidumping duties occurred and the subsequent assessment of doubled antidumping duties.

This notice serves as the only reminder to parties subject to administrative protective order (APO) of their responsibility concerning the disposition of proprietary information disclosed under APO in accordance with 19 CFR 351.305(a)(3). Timely written notification of return/destruction of APO materials or conversion to judicial protective order is hereby requested. Failure to comply with the regulations and the terms of an APO is a sanctionable violation.

We are issuing and publishing this determination and notice in accordance with sections section 751(a)(1) and 777(i) of the Act.

Dated: October 1, 2001.
Joseph A. Spetrini,
Acting Assistant Secretary for Import Administration.

Appendix—Issues in Decision Memo

Comments

1. Exchange Rates

2. Financing Expenses

3. Profit Used for Constructed Value

[FR Doc. 01-25099 Filed 10-4-01; 8:45 am]

BILLING CODE 3510-DS-P